DEPARTMENT OF COMMERCE

National Oceanic and Atmospheric Administration

[RTID 0648-XB318]

Pacific Fishery Management Council; Public Meeting

AGENCY: National Marine Fisheries Service (NMFS), National Oceanic and Atmospheric Administration (NOAA), Commerce.

ACTION: Notice of public meeting.

SUMMARY: The Co-Chairs of the Pacific Fishery Management Council's (Pacific Council) Ad Hoc Climate and Communities Core Team (CCCT) are holding an online briefing for members of other Council advisory bodies. This meeting is open to the public.

DATES: The online meeting will be held Thursday, September 2, 2021, from 12 p.m. to 1:30 p.m.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kit Dahl, Staff Officer, Pacific Council; telephone: (503) 820-2422.

SUPPLEMENTARY INFORMATION: In March 2021, the Pacific Council directed the CCCT to brief Pacific Council advisory body members in advance of the September 2021 Pacific Council meeting on its findings and recommendations from the outcomes of the Fishery Ecosystem Plan Climate and Communities Initiative. The CCCT is preparing a report on Initiative outcomes, which will be included in the advance briefing materials for the September Pacific Council meeting. The CCCT Co-Chairs will provide an overview of the results of the Initiative and the Team's recommendations for potential follow-on activities. The Pacific Council is expected to review the report and provide guidance on any continuing activities. Other Pacific Council advisory bodies are encouraged to develop their own recommendations; this briefing will provide background information to help in the development of such recommendations by Pacific Council advisory bodies and the public.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: August 11, 2021.
Tracey L. Thompson,
Acting Deputy Director, Office of Sustainable Fisheries, National Marine Fisheries Service.

[FR Doc. 2021-17451 Filed 8-13-21; 8:45 am]

BILLING CODE 3510-22-P